DEPARTMENT OF DEFENSE

Office of the Secretary

[Docket No. DoD-2010-OS-0083]

Information Collection; Comment Request

ACTION: Notice.

SUMMARY: The Department of Defense is submitting to OMB for emergency clearance, the following proposal for collection of information under the provisions of the Paperwork Reduction Act (44 U.S.C. chapter 35). A shortened comment period of twelve days is necessary because the collection of information related to the repeal of “Don't Ask Don't Tell” is needed prior to the submission of recommendations from the Department of Defense to the White House. The initial report on the impact of the repeal of the law on spousal family readiness and perceived unit stability and cohesion is needed by mid-September 2010. As data collection procedures needed to ensure high response rates require a 2 month field period, it is necessary to begin data collection procedures no later than mid-July.

DATES: Consideration will be given to all comments received by June 30, 2010.

Title and OMB Number: Survey for Military Family Members, OMB Control Number 0704-TBD.

Type of Request: New.

Number of Respondents: 150,000.

Responses per Respondent: 1.

Annual Responses: 50,000.

Average Burden per Response: 30 minutes.

Annual Burden Hours: 75,000 hours.

Needs and Uses: The Department of Defense Comprehensive Review Working Group (CRWG) is the working group the Secretary of Defense directed to examine the issues associated with a repeal of the law known as “Don't Ask, Don't Tell.” The CRWG is studying what impact, if any, repeal would have on military readiness, military effectiveness, unit cohesion, recruiting, retention, and family readiness. As part of these efforts, the CRWG will also look at how best to manage any impacts during implementation. The survey is an opportunity for the families of service members to share their feelings on the issue with the CRWG and the military's senior leadership. The survey is a critical part of the CRWG's efforts as military families are an essential part of the military community and their reactions to the repeal of “Don't Ask, Don't Tell” could have significant influence on the behavior of their spouses and the impact of repeal on recruiting, retention, and family readiness.

Affected Public: Individuals or households.

Frequency: One-time.

Respondent's Obligation: Voluntary.

OMB Desk Officer: Ms. Jasmeet Seehra.

Written comments and recommendations on the proposed information collection should be sent to Ms. Seehra at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this information collection, please write to Col. Donna Alberto, DOD Comprehensive Review Working Group, Crystal Mall 2, 1801 S. Bell St., Suite 409, Arlington, VA; or call (703) 602-2917.

Dated: June 14, 2010.
Mitchell S. Bryman,
Alternate OSD Federal Register Liaison Officer, Department of Defense.

[FR Doc. 2010-14746 Filed 6-17-10; 8:45 am]

BILLING CODE 5001-06-P